DEPARTMENT OF COMMERCE

Census Bureau

Agency Information Collection Activities; Submission to the Office of Management and Budget (OMB) for Review and Approval; Comment Request; National Survey of Children's Health

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 8, 2022 during a 60-day comment period. This notice allows for an additional 30 days for public comments.

Agency: U.S. Census Bureau, Department of Commerce.

Title: National Survey of Children's Health.

OMB Control Number: 0607-0990.

Form Number(s): NSCH-S1 (English Screener), NSCH-T1 (English Topical for 0- to 5-year-old children), NSCH-T2 (English Topical for 6- to 11-year-old children), NSCH-T3 (English Topical for 12- to 17-year-old children), NSCH-S-S1 (Spanish Screener), NSCH-S-T1 (Spanish Topical for 0- to 5-year-old children), NSCH-S-T2 (Spanish Topical for 6- to 11-year-old children), and NSCH-S-T3 (Spanish Topical for 12- to 17-year-old children).

Type of Request: Regular submission, Request for a Revision of a Currently Approved Collection.

Number of Respondents: 67,299 for the screener only and 65,103 for the combined screener and topical, for a total of 132,402 respondents.

Average Hours per Response: 5 minutes per screener response and 35-36 minutes per topical response, which in total is approximately 40-41 minutes for households with eligible children.

Burden Hours: 49,431.

Needs and Uses: The National Survey of Children's Health (NSCH) enables the Maternal and Child Health Bureau (MCHB) of the Health Resources and Services Administration (HRSA) of the U.S. Department of Health and Human Services (HHS) along with supplemental sponsoring agencies, states, and other data users to produce national and state-based estimates on the health and well-being of children, their families, and their communities as well as estimates of the prevalence and impact of children with special health care needs.

Data will be collected using one of two modes. The first mode is a web instrument (Centurion) survey that contains the screener and topical instruments. The web instrument first will take the respondent through the screener questions. If the household screens into the study, the respondent will be taken directly into one of the three age-based topical sets of questions. The second mode is a mailout/mailback of a self-administered paper-and-pencil interviewing (PAPI) screener instrument followed by a separate mailout/mailback of a PAPI age-based topical instrument.

The National Survey of Children's Health (NSCH) is a large-scale (sample size is up to 385,000 addresses) national survey with approximately 200,000 addresses included in the base production survey and approximately 185,000 addresses included as part of fifteen separate age-based, state-based, or region-based oversamples. The 2023 NSCH will include a topical incentive test. Prior cycles of the survey have included a $5 unconditional cash incentive with the initial mailing of the paper topical questionnaire. The incentive has proven to be a cost-effective intervention for increasing survey response and reducing nonresponse bias. The 2023 NSCH will continue to test a $10 cash incentive, with a focus on lower responding households.

As in prior cycles of the NSCH, there remain two key, non-experimental design elements. The first additional non-experimental design element is a $5 screener cash incentive mailed to 90% of sampled addresses; the remaining 10% (the control) will receive no incentive to monitor the effectiveness of the cash incentive. This incentive is designed to increase response and reduce nonresponse bias. The incentive amount was chosen based on the results of the 2022 NSCH as well as funding availability. The second additional non-experimental design element is a data collection procedure based on the block group-level paper-only response probability used to identify households (30% of the sample) that would be more likely to respond by paper and send them a paper questionnaire in the initial mailing.

Affected Public: Individuals or households.

Frequency: The 2023 collection is the eighth administration of the NSCH. It is an annual survey, with a new sample drawn for each administration.

Respondent's Obligation: Voluntary.

Legal Authority: Census Authority: Title 13, United States Code (U.S.C.), Section 8(b) (13 U.S.C. 8(b)).

HRSA MCHB Authority: Section 501(a)(2) of the Social Security Act (42 U.S.C. 701).

United States Department of Agriculture Authority: Agriculture Improvement Act of 2018, Public Law 115-334.

United States Department of Health and Human Services' Centers for Disease Control and Prevention, National Center on Birth Defects and Developmental Disabilities Authority: Public Health Service Act, Section 301, 42 U.S.C. 241.

United States Department of Health and Human Services' Centers for Disease Control and Prevention, National Center for Chronic Disease Prevention and Health Promotion Authority: Sections 301(a), 307, and 399G of the Public Health Service [42 U.S.C. 241(a), 242l, and 280e-11], as amended.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0990.

Sheleen Dumas,
Department PRA Clearance Officer, Office of the Chief Information Officer, Commerce Department.

[FR Doc. 2023-04932 Filed 3-9-23; 8:45 am]

BILLING CODE 3510-07-P